DEPARTMENT OF AGRICULTURE

Natural Resources Conservation Service

Adoption of Final Environmental Assessment (UT-040-09-03) Prepared for the Upper Kanab Creek Watershed Vegetation Management Project

AGENCY: Natural Resources Conservation Service, USDA.

ACTION: Notice of Intent (NOI) to adopt final Environmental Assessment (EA).

SUMMARY: The United States Department of Agriculture, Natural Resources Conservation Service (NRCS) announces its intent to adopt the Kanab Creek Watershed Vegetation Management Project EA, as prepared by the U.S. Department of Interior's Bureau of Land Management (BLM), under the provisions of the Council on Environmental Quality (CEQ) regulations (40 CFR 1506.3).

DATES: NRCS will accept comments received or postmarked concerning the adoption of this EA at the address below until July 19, 2013.

ADDRESSES: You may submit comments concerning the adoption of the Kanab Creek Watershed Vegetation Management Project EA, request a copy of the EA, or submit comments on actions being taken by NRCS regarding this matter to: Mr. Gary McRae, Resource Conservationist, Natural Resources Conservation Service, 125 South State Street, Room 4010, Salt Lake City, Utah 84138.

FOR FURTHER INFORMATION CONTACT: Mr. Gary McRae, Resource Conservationist, Natural Resources Conservation Service, 125 South State Street, Room 4010, Salt Lake City, Utah 84138; email at gary.mcrae@ut.usda.gov.

SUPPLEMENTARY INFORMATION: NRCS announces its intent to adopt the Kanab Creek Watershed Vegetation Management Project EA (UT-040-09-03) prepared by the U.S. Department of Interior's Bureau of Land Management (BLM), Color County District, under the provisions of the Council on Environmental Quality (CEQ) regulations (40 CFR 1506.3). NRCS has reviewed this EA and determined that it adequately addresses the environmental impacts related to the proposed action for the private land vegetation treatment within the watershed.

As described in the EA, the area project is 130,689 acres with up to 52,043 acres proposed for treatment. The NRCS is the lead agency dealing with the small private parcels totaling 31,401 acres within this proposed watershed. A portion of this private land, the acreage is dependent on private landowner's preference, will also participate in vegetation treatment. The proposed action is needed to: (1) Reduce hazardous fuels and risk to life and property from catastrophic wildland fire, (2) restore and improve the sagebrush steppe ecosystem, (3) increase plant species diversity and improve watershed conditions and water quality, (4) improve the health of both woodland and sagebrush/grassland by increasing vegetation diversity as well as age class structure, (5) enhance important seasonal and year-round habitat for several species of wildlife including but not limited to sage grouse, mule deer, elk, and pronghorn antelope, and (6) decrease the amount of pinyon/juniper expansion into areas historically dominated by sagebrush and grass.

Dated: June 4, 2013.
David C. Brown,
Utah State Conservationist .

[FR Doc. 2013-14636 Filed 6-18-13; 8:45 am]

BILLING CODE 3410-16-P